ENVIRONMENTAL PROTECTION AGENCY

[FRL OP-OFA-050]

Environmental Impact Statements; Notice of Availability

Responsible Agency: Office of Federal Activities, General Information 202-564-5632 or https://www.epa.gov/nepa.

Weekly receipt of Environmental Impact Statements (EIS) Filed December 19, 2022 10 a.m. EST Through December 23, 2022 10 a.m. EST Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20220193, Final, FEMA, NJ, ADOPTION—Rebuild by Design—Hudson River (RBD-HR), Review Period Ends: 01/30/2023, Contact: John McKee 202-704-7160.

The Federal Emergency Management Agency (FEMA) has adopted the Department of Housing and Urban Development's Final EIS No. 20170101, filed 6/8/2017 with the Environmental Protection Agency. The FEMA was not a cooperating agency on this project. Therefore, republication of the document is necessary under Section 1506.3(c) of the CEQ regulations.

Amended Notice

EIS No. 20220175, Draft, BIA, DOI, OR, Coquille Indian Tribe Fee to Trust Gaming Facility Project, Comment Period Ends: 02/23/2023, Contact: Tobiah Mogavero 435-210-0509.

Revision to FR Notice Published 11/25/2022; Extending the Comment Period from 01/09/2023 to 02/23/2023.

Dated: December 23, 2022.
Cindy S. Barger,
Director, NEPA Compliance Division, Office of Federal Activities.

[FR Doc. 2022-28438 Filed 12-29-22; 8:45 am]

BILLING CODE 6560-50-P